FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

AE Eagle Logistics Inc. (NVO & OFF), 765 Route 83, Suite 111, Bensenville, IL 60106; Officers: Neal Lieu, Secretary/Treasurer (Qualifying Individual), Milton Cheung, President, Application Type: Add OFF Service.

Asecomer International Corporation dba Interworld Freight, Inc. dba Junior Cargo Inc. dba Intercontinental Lines Corp (NVO), 8225 NW 80 Street, Miami, FL 33166; Officer: John O. Crespo, President (Qualifying Individual), Application Type: Trade Name Change.

ATI Container Services, LLC (NVO & OFF), 11700 NW 36th Avenue, Miami, FL 33167; Officers: Claudia M. Hermo, President (Qualifying Individual), Carlos Hermo, Vice President, Application Type: New NVO & OFF License.

Bonaberi Shipping & Moving, Inc. (NVO & OFF), 6917 Kent Town Drive, Hyattsville, MD 20785; Officers: Tse E. Bangarie, President/Secretary/Treasurer (Qualifying Individual), Charles A. Nguti, Board Member, Application Type: New NVO & OFF License.

Damco A/S Inc. dba Damco dba Damco, Maritime dba Damco Sea and Air (NVO), 2 Giralda Farms Madison, NJ 07940; Officers: James Percival, Compliance Officer (Qualifying Individual), Rolf E. Habben-Jansen, Chairman, Application Type: New NVO License.

Daybreak Logistics, Inc. (NVO & OFF), 2804 N. Cannon Blvd., Kannapolis, NC 28083; Officers: Robert Lee Bare, Secretary/Treasurer (Qualifying Individual), Mary O. Bare, President Application Type: Name Change/QI change.

Interact Moving Services, Inc. (NVO). 11905 Sailboat Drive. Cooper City, FL 33026-1027; Officer: Maria I. Perugini, President (Qualifying Individual,) Application Type: New NVO License.

La Solucion Cargo Express Corp. (NVO), 3900 SW 52nd Avenue, Suite 401, Hollywood, FL 33023; Officers: Hermogenes R. Simo, President/Secretary (Qualifying Individual). Application Type: New NVO License.

Maromar International Freight Forwarders Inc. (OFF), 8710 NW 99 Street, Medley, FL 33178. Officer: Marta Barth, President/Secretary (Qualifying Individual), Application Type: New OFF License.

MBM International Logistics, LLC (NVO & OFF), 650 Atlanta South Parkway, Suite 104, Atlanta, GA 30349; Officers: Xiao Yan Mers, President/Secretary (Qualifying Individual), Harold Hagans, Vice President, Application Type: QI Change.

Pegasus Logistics Group, Inc. (NVO & OFF), 615 Freeport Parkway, Coppell, TX 75019; Officer: Kenneth C. Beam, President/Secretary/Treasurer (Qualifying Individual), Application Type: Add NVO Service.

Pink City Logistics USA LLC (NVO & OFF), 7 Emily Road, Manalapan, NJ 07726; Officers: Parveen Sharma, Manager (Qualifying Individual), Tanshu Sharma, President, Application Type: New NVO & OFF License.

Q Logistics, LLC (NVO), 2145 S 11th Avenue, #110, Phoenix, AZ 85007; Officer: Jason P. Quagliata, Member (Qualifying Individual), Application Type: New NVO License.

Stella Maris International Trading, Inc. (NVO & OFF), 3825 Henderson Boulevard, Suite 100, Tampa, FL 33629; Officers: Fernando Perez, Vice President/Secretary (Qualifying Individual), Nadya Ojeda-Perez, President/Treasurer, Application Type: Add OFF Service.

T-Link Logistics Inc. (NVO & OFF), 1520 Bridgegate Drive, Diamond Bar, CA 91765; Officers: Libang Song, Senior Executive Vice President (Qualifying Individual), Ming Wu, CEO/CFO/Secretary, Application Type: New NVO & OFF License.

Trans-Pak International, Inc. (OFF), 130 Produce Avenue, Suite H, S. San Francisco, CA 94080; Officers: Leilani Arendell, Chief Financial Officer (Qualifying Individual), Arleen Inch, President, Application Type: New OFF License.

Webgistix Corporation (OFF), 127 E. Warm Springs Road, Las Vegas, NV 89119; Officer: Joseph A. Disorbo, CEO/Pres/Dir/Treas/Sec. (Qualifying Individual), Application Type: New OFF License.

William B. Meyer, Incorporated (OFF), 255 Long Beach Blvd., Stratford, CT 06615; Officers: Chad M. Francis, VP, International Business Development (Qualifying Individual) Thomas M. Gillon, President/CEO, Application Type: New OFF License.

Zfreight, Inc. (OFF), 432 Fishtail Terrace, Weston, FL 33327; Officers: Ismael G. Diaz, President (Qualifying Individual), Nestor Arguello, Vice President, Application Type: New OFF License.

Dated: November 18, 2011.
Karen V. Gregory,
Secretary.

[FR Doc. 2011-30294 Filed 11-22-11; 8:45 am]

BILLING CODE P